DEPARTMENT OF HEALTH AND HUMAN SERVICES

Centers for Disease Control and Prevention

[30 DAY-23-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project: 2nd Injury Control and Risk Survey (ICARIS2)—New—The National Center for Injury Prevention and Control (NCIPC), Centers for Disease Control and Prevention, (CDC)—This project will use data from a telephone survey to measure injury-related risk factors and guide injury prevention and control priorities, including those identified as priorities in Healthy People 2010 objectives for the nation. Injuries are a major cause of premature death and disability with associated economic costs over 150 billion dollars in lifetime costs for persons injured each year. Healthy People 2010 objectives and the recent report from the Institute of Medicine, Reducing the Burden of Injury, call for reducing this toll. In addition to national efforts, NCIPC funds injury control programs at the state and local levels. These programs need data both to establish their prevention priorities and monitor their performance. The use of outcome data (e.g., fatal injuries) for measuring program effectiveness is problematic because cause-specific events are relatively rare and because data on critical risk factors (e.g., was a helmet worn in a fatal bike crash, was a smoke detector present at a fatal fire?) are often missing. Because these risk factors are early in the causal chain of injury, they are what injury control programs target to prevent injuries. Accordingly, monitoring the level of injury risk factors in a population can help programs set priorities and evaluate interventions.

The first Injury Control and Risk Survey (ICARIS), conducted in 1994, was a random digit dial telephone survey that collected injury risk factor and demographic data on 5,238 English and Spanish speaking adults (≥18 yrs-old) in the United States. Proxy data were collected on 3,541 children <15 years old. More than a dozen peer-reviewed scientific reports have been published from the ICARIS data, on subjects including dog bites, bicycle helmet use, residential smoke detector usage and fire escape practices, attitudes towards violence, suicidal ideation and behavior, and compliance with pediatric injury prevention counseling. Five years have elapsed since ICARIS, and a repeat survey is needed for monitoring the injury risk factor status of the nation at the start of the millennium. Further, by using data collected in ICARIS as a baseline, ICARIS2 can measure changes and gauge the impact of injury prevention policies. ICARIS2 may also serve as the only readily available source of data to measure several of the Healthy People 2010 injury prevention objectives. The total burden hours is estimated to be 5,897.

Respondents screening | Number of respondents | Number of responses/ respondent | Avg. burden per response (in hrs.)
Non-households | 5,800 | 1 | 0.5/60
Unable to reach sampled adult after 6 attempts | 2,100 | 6 | 2/60
Refusals | 1,800 | 3 | 3/60
Break-offs | 675 | 1 | 5/60
CATI-Survey
Completed Interviews | 8,500 | 1 | 35/60
Supplemental Questions | 8,500 | 1 | 1/60

Dated: April 6, 2001.
Nancy E. Cheal,
Acting Associate Director for Policy, Planning and Evaluation, Centers for Disease Control and Prevention (CDC).

[FR Doc. 01-9071 Filed 4-11-01; 8:45 am]

BILLING CODE 4163-18-P